DEPARTMENT OF LABOR

Employment and Training Administration

[TA-W-38,380]

Rexam Medical Packaging, Mt. Holly, New Jersey; Dismissal of Application for Reconsideration

Pursuant to 29 CFR 90.18(C) an application for administrative reconsideration was filed with the Director of the Division of Trade Adjustment Assistance for workers at Rexam Medical Packaging, Mt. Holly, New Jersey. The application contained no new substantial information which would bear importantly on the Department's determination. Therefore, dismissal of the application was issued.

TA-W-38,380; Rexam Medical Packaging, Mt. Holly, New Jersey (June 27, 2001)

Signed at Washington, DC this 28th day of June, 2001.
Edward A. Tomchick,
Director, Division of Trade Adjustment Assistance.

[FR Doc. 01-17351 Filed 7-10-01; 8:45 am]

BILLING CODE 4510-30-M